DEPARTMENT OF ENERGY

Notice of Intent To Prepare an Environmental Assessment (EA) for the Proposed Conveyance of Land at the Hanford Site, Richland, WA and Notice of Potential Floodplain and Wetland Involvement

AGENCY: Department of Energy.

ACTION: Notice of Intent to Prepare an Environmental Assessment.

SUMMARY: Pursuant to the National Environmental Policy Act of 1969 (NEPA) and the Council on Environmental Quality (CEQ) and U.S. Department of Energy (DOE) NEPA implementing regulations, DOE is announcing its intention to prepare an Environmental Assessment (EA; DOE/EA-1915) to assess the potential environmental effects of conveying approximately 1,641 acres of Hanford Site land to a local economic development organization. Conveyance of the land could include title transfer, lease, easement, license, or a combination of these realty actions. The Tri-City Development Council (TRIDEC), a DOE designated Community Reuse Organization (CRO) and 501(c)(6) nonprofit corporation, submitted a proposal to DOE in May 2011 (amended October 2011) requesting the transfer of approximately 1,641 acres of land located in the southeastern corner of the Hanford Site near the City of Richland in Benton County, Washington for economic development purposes. DOE anticipates that there may be continuing mission needs, such as security and safety buffer zones on some of the requested lands, making them less suitable for conveyance. Therefore, the lands that will be addressed in the EA analysis will include the acreage requested by TRIDEC and approximately 2,772 additional acres adjacent to the requested lands. The EA will evaluate the potential environmental impacts of conveying approximately 1,641 acres of the total 4,413 acres included in the analysis area. The acreage being considered in the EA analysis is part of approximately 59 square miles of Hanford Site lands previously designated by DOE for industrial uses under the Hanford Comprehensive Land-Use Plan (CLUP), based on analyses presented in the Hanford Comprehensive Land-Use Plan Environmental Impact Statement (HCP-EIS) [DOE/EIS-0222; September 1999; Record of Decision (ROD) (64 FR 61615; November 12, 1999)]. The HCP-EIS recognized the potential for future conveyance of some industrial-designated lands to the local community for economic development. The CLUP was reaffirmed in a Supplement Analysis to the HCP-EIS (DOE/EIS-0222-SA-01; June 2008) and amended ROD (73 FR 55824; September 26, 2008).

The EA will analyze the reasonably foreseeable environmental effects associated with the probable future uses of lands in the analysis area, based upon industry targets described in the TRIDEC proposal, including warehousing and distribution; research and development; technology manufacturing; food processing and agriculture; and “back office” (i.e., business services). The proposed action may affect floodplains and wetlands, so this Notice of Intent also serves as a notice of proposed floodplain or wetland action in accordance with DOE floodplain and wetland environmental review requirements.

DATES: DOE invites public comment on the scope of this Hanford Site Land Conveyance EA during a 30-day public scoping period beginning September 19, 2012 and ending on October 19, 2012. DOE will consider all comments received or postmarked by the end of the scoping period to define the scope of this EA. Comments received or postmarked after the end date will be considered to the extent practicable. A public scoping meeting is scheduled for October 10, 2012.

ADDRESSES: The public scoping meeting will be held from 5:30 p.m. to 8:30 p.m. at the Richland Public Library in Richland, Washington. DOE will issue stakeholder and media notifications and publish an additional notice on the date, time and location of the scoping meeting in the local newspaper before the scheduled meeting. DOE will notify stakeholders and the media of any changes concerning the scoping meeting.

Scoping comments may be submitted by regular mail and addressed as follows: Ms. Paula Call, NEPA Document Manager, U.S. Department of Energy, Richland Operations Office, P.O. Box 550, MSIN A2-15, Richland, WA 99352.

Scoping comments may also be submitted by email to landconveyanceEA@rl.doe.gov.

FOR FURTHER INFORMATION CONTACT: For information on DOE's proposed action, contact Ms. Call by mail or email as noted above in ADDRESSES, or at 509-376-2048.

For general information concerning DOE's NEPA process, contact: Ms. Carol M. Borgstrom, Director, Office of NEPA Policy and Compliance (GC-54), U.S. Department of Energy, 1000 Independence Avenue SW., Washington, DC 20585-0119, Telephone: 202-586-4600, Fax: 202-586-7031, Voice mail message: 1-800-472-2756, Email: asknepa@hq.doe.gov.

Additional information regarding DOE's NEPA activities is available on the DOE NEPA Web site at http://energy.gov/nepa.

SUPPLEMENTARY INFORMATION:

Background

Situated along the Columbia River in southeastern Washington, DOE's 586-square-mile Hanford Site is undergoing extensive efforts to clean up contamination resulting from past nuclear defense research and development activities dating back to World War II. DOE has real property conveyance authority under a number of different laws including the Atomic Energy Act of 1954 (AEA). Section 161(g) of the AEA authorizes DOE to convey real property by sale or lease to another party.

DOE may hold harmless and indemnify a person or entity to whom real property is conveyed against liability for pre-existing contamination that may have resulted from DOE (or predecessor agency) activities at the site. Such indemnification is consistent with the Comprehensive Environmental Response, Compensation, and Liability Act (CERCLA) Section 120(h)(3)(A)(ii)(II); EPA's “Policy Towards Landowners and Transferees of Federal Facilities” (EPA, 1997); and DOE regulation 10 Code of Federal Regulations (CFR) part 770, Transfer of Real Property at Defense Nuclear Facilities for Economic Development.

Significant progress has been made in cleanup of the Hanford Site, particularly as a result of the American Recovery and Reinvestment Act (111th Congress: American Recovery and Reinvestment Act of 2009). Accordingly, there is heightened focus in the local community on the need to transition away from an economy focused largely on DOE and Hanford activities to one based on private sector or other non-DOE Federal agencies. As the designated CRO for the Hanford Site, TRIDEC's charter is to promote these economic development goals. Beginning in 1996, and continuing in 2000, 2003, 2004, and 2005, TRIDEC commissioned studies to develop strategies and target industries that would be most appropriate for future economic development. TRIDEC also engaged in marketing and recruitment activities during this time period. Industries that were targeted in these studies and recruitment efforts included warehousing and distribution; research and development; technology manufacturing; food processing and agriculture; and “back office” (i.e., business services).

In February 2011, the Secretary of Energy established a DOE-wide Task Force on an Asset Revitalization Initiative (ARI), to initiate a comprehensive review of DOE assets and possible disposition paths. DOE submitted its report to Congress on the progress of this Initiative in August 2011 (Asset Revitalization Initiative Report to Congress, Department of Energy, August 2011). Also in 2011, TRIDEC submitted a request to DOE for title transfer of approximately 1,641 acres of undeveloped land located near the southeastern boundary of the Hanford Site, pursuant to 10 CFR part 770. TRIDEC's proposal states its intent to work with the City of Richland, the Port of Benton, and Benton County to establish the property as an Industrial Development and Energy Park. The proposal states that TRIDEC may subsequently transfer ownership either to a private user or to one of its public agency partners, such as the City of Richland.

Purpose and Need for Agency Action

TRIDEC, the recognized CRO for the Hanford Site, has requested transfer of 1,641 acres of Hanford lands for economic development. Consistent with the Hanford CLUP which designates the subject lands for industrial use, and the HCP-EIS which recognized the potential for future conveyance of industrial-designated lands to the local community for economic development, DOE will consider the TRIDEC request for the transfer of 1,641 acres of Hanford lands to support local economic development.

Proposed Action and Alternatives

In response to the TRIDEC proposal, DOE proposes to convey approximately 1,641 acres of Hanford land to the CRO for the purposes of facilitating local economic development and assisting the local community in the transition away from an economy focused largely on DOE and Hanford-related funding. Conveyance of the land could include title transfer, lease, easement, license, or a combination of these realty actions. It is important to note that at this time, no specific end users or development proposals have been identified or proposed. In addition to reasonable alternatives that may be identified during public scoping, the EA will analyze two alternatives: the No Action Alternative and the Proposed Action Alternative. Under the No Action Alternative, DOE would retain ownership and management of the land.

Under the Proposed Action Alternative, DOE would convey approximately 1,641 acres of undeveloped land in response to the CRO's land transfer request. The CRO plans to use, market, lease, sell, or otherwise develop the land to conduct industrial development and commercial activities that are consistent with local zoning and comprehensive land use plans. These lands are generally bounded by Horn Rapids Road and Highway 240 to the south; Route 10 to the west; and Stevens Drive or Route 4 South to the east and north, and are located near the northeast boundary of the City of Richland. The TRIDEC request includes two parcels: (1) A 1,341-acre parcel located northwest of the intersection of Horn Rapids Road and Stevens Drive, with the west and north boundaries adjacent to the Hanford Firing Range and an active borrow pit; and (2) a 300-acre parcel located ½-mile north of the 1,341-acre parcel, separated from the 1,341-acre parcel by the active borrow pit. DOE anticipates that there may be continuing mission needs, such as security and human health and safety buffer zones, on portions of the lands requested by TRIDEC. Therefore, the EA analysis will consider for conveyance the parcels requested by TRIDEC as well as the adjacent 2,772-acre parcel roughly bounded by the 1,341-acre parcel to the south, the Hanford Firing Range to the west, the Hanford Railroad and Route 4 South to the east, and a straight line extending from the northeastern tip of the Hanford Firing Range to the Hanford Railroad to the north. The EA will evaluate whether to convey approximately 1,641 acres of the total 4,413 acres included in the analysis area.

Consistent with the CLUP analyses of reasonably foreseeable environmental effects associated with the probable future use of the lands, DOE intends to base its analyses in the EA on the previous TRIDEC target industry studies and TRIDEC's intent to market the land as an Industrial Development and Energy Park including:

(i) Warehousing&Distribution—such as manufactured parts/materials distribution, food/agricultural;

(ii) Research and Development—such as scientific research, software, data security, computation, energy, environmental, or biotechnology;

(iii) Technology Manufacturing—such as defense manufacturing, sensor manufacturing, or medical devices;

(iv) Food/Agriculture—such as wine, food processing, or agricultural products;

(v) “Back Office” (i.e. business services)—such as call centers, administrative processing, or data processing.

DOE's analysis of the Proposed Action Alternative will also assume that future uses would be developed in accordance with local zoning and current City of Richland (2008) and Benton County (2006) comprehensive land use plans that were developed to comply with the Washington State Growth Management Act. In order to identify environmental effects that could result from implementation of the proposed action, DOE intends to use analytical assumptions in the EA that would tend to maximize estimates of reasonably foreseeable environmental impacts associated with footprint, infrastructure, utilities, emissions, construction of buildings, projected workforce and traffic, water usage, and similar requirements.

Preliminary Identification of Environmental Issues

Issues tentatively identified for analysis in the EA include the reasonably foreseeable effects associated with: land use; ecological resources; cultural and historic resources; geology and soils; water resources; climate and air quality; noise; transportation; accidents and intentional destructive acts; socioeconomics; environmental justice; visual resources; waste management; infrastructure; and human health and safety. The proposed action may affect floodplains and wetlands. This NOI serves as a notice of proposed floodplain or wetland action in accordance with DOE floodplain and wetland environmental review requirements (10 CFR part 1022). The EA will include an assessment of potential impacts to floodplains and wetlands, and if required, a statement of findings following DOE regulations for compliance with floodplain and wetlands environmental review (10 CFR part 1022). The analyses will identify the environmental effects that are reasonably foreseeable to the local region as well as to ongoing DOE missions and activities at the Hanford Site. The analysis will also consider cumulative environmental effects. The EA will also explore potential mitigation measures that could result in imposing deed restrictions aimed at precluding or minimizing environmental consequences.

National Historic Preservation Act

Section 106 of the National Historic Preservation Act (NHPA) requires Federal agencies to take into account the effects of their undertakings on historic properties. Federal agencies are encouraged to coordinate compliance with Section 106 of the NHPA with any steps taken to meet the requirements of NEPA. In the interest of being comprehensive and less duplicative, DOE plans to coordinate the NEPA review and Section 106 compliance processes for the preparation of this EA to the greatest extent possible.

Scoping Process

DOE has established a 30-day scoping period during which Federal agencies, State, Tribal and local governments, special interest groups, concerned citizens and any other interested parties are invited to comment on the scope of the EA, including specific issues that should be addressed in the EA. In keeping with DOE's plans to coordinate the NEPA and NHPA Section 106 requirements, DOE also invites comments regarding the identification of historic properties governed by the NHPA, and any potential adverse effects that may result from the proposed action, along with suggested actions DOE might take to mitigate any such adverse effects. A public meeting will be held during the scoping period. At the public meeting, DOE will provide an overview of the proposed action, an informal question-and-answer period to clarify the information presented, and an opportunity for individuals to provide formal written or oral statements. DOE will consider all comments received during the scoping period in preparing the draft EA.

If at any time during preparation of the EA DOE determines that an environmental impact statement (EIS) is needed, DOE will issue a revised Notice of Intent (NOI) to prepare an EIS in the Federal Register. In that case, the current scoping process will serve as the scoping process that normally would follow an NOI to prepare an EIS. Accordingly, DOE will consider any comments on the scope of the EA received during this scoping process in preparing the EIS.

Issued in Richland, WA on September 12, 2012.
Matt McCormick,
Manager, Richland Operations Office.

[FR Doc. 2012-23099 Filed 9-18-12; 8:45 am]

BILLING CODE 6450-01-P